DEPARTMENT OF TRANSPORTATION

Surface Transportation Board

[STB Finance Docket No. 35280]

Wisconsin Central Ltd.—Trackage Rights Exemption—Grand Trunk Western Railroad Company

Pursuant to a written trackage rights agreement dated July 13, 2009, Grand Trunk Western Railroad Company (GTW) has agreed to grant nonexclusive trackage rights to Wisconsin Central Ltd. (WCL) over 12.9 miles of GTW's Elsdon Subdivision between GTW's connection with Illinois Central Railroad Company at or near milepost 23.2 (CN Junction) at Harvey, IL and the east side of the interlocking plant for GTW's connection with Elgin, Joliet & Eastern Railway Company at or near milepost 36.1 (Griffith), at Griffith, IN.¹

¹ A redacted version of the trackage rights agreement between GTW and WCL was filed with the notice of exemption. The full version of the agreement, as required by 49 CFR 1180.6(a)(7)(ii), was concurrently filed under seal along with a motion for protective order. The motion is being addressed in a separate decision.

The transaction is scheduled to be consummated on or about September 3, 2009, the effective date of the exemption (30 days after the exemption is filed). The purpose of the trackage rights is to enable GTW to efficiently handle freight movements between CN Jct. and Griffith on GTW's Elsdon Subdivision. The transaction also extends to all industry spurs, connecting tracks and sidings now existent or hereafter constructed along the tracks to be used here, and right-of-way for the tracks to be used here, signals, interlocking devices and plants, telegraph and telephone lines, and other appurtenances necessary to the use of those tracks.

This is one of 17 notices of exemption for trackage rights in the Chicago area submitted simultaneously by carrier subsidiaries of the Canadian National Railway Company (CN). We note that the involved lines of railroad were examined as part of the project area in Canadian National Railway Company and Grand Trunk Corporation—Control—EJ&E West Company, Finance Docket No. 35087 (STB served Dec. 24, 2008) (CN—EJ&E). Neither CN nor any of the carriers submitting these notices has explained how the notices relate to each other, or how they would impact the operational information provided to the Board in CN—EJ&E. CN and its carrier subsidiaries are directed to submit this information, as well as a color-coded map showing all 17 proposed trackage rights exemptions, by August 21, 2009.

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by August 27, 2009 (at least 7 days before the exemption becomes effective).

Pursuant to the Consolidated Appropriations Act, 2008, Public Law 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35280, must be filed with the Surface Transportation Board, 395 E Street, SW., Washington, DC 20423-0001. In addition, a copy of each pleading must be served on Thomas J. Healey, Counsel—Regulatory, CN, 17641 S. Ashland Ave., Homewood, IL 60430.

Board decisions and notices are available on our Web site at “http://www.stb.dot.gov.”

It is ordered:

The carriers filing this notice and CN are hereby directed to file by August 21, 2009: (1) An explanation of how this notice relates to the 16 other notices filed simultaneously by carrier subsidiaries of CN, (2) an explanation of how these notices would impact the operational information provided to the Board in CN—EJ&E and (3) a color-coded map.

Decided: August 17, 2009.
By the Board, Rachel D. Campbell, Director, Office of Proceedings.
Kulunie L. Cannon,
Clearance Clerk.

[FR Doc. E9-20088 Filed 8-20-09; 8:45 am]

BILLING CODE 4915-01-P